DEPARTMENT OF ENERGY

Agency Information Collection Extension; Correction

AGENCY: Office of Sustainability and Asset Management, Department of Energy.

ACTION: Notice of request for comments; correction.

SUMMARY: On January 19, 2023, the Office of Sustainability and Asset Management, Department of Energy, published a request for comments in the Federal Register on a proposed collection of information that DOE is developing for submission to the Office of Management and Budget (OMB) pursuant to the Paperwork Reduction Act of 1995.

FOR FURTHER INFORMATION CONTACT: Monja Vadnais, Acting Director, Office of Sustainability and Asset Management, U.S. Department of Energy, 1000 Independence Avenue, Washington, DC 20585; Telephone: (202) 287-1563; Email: monja.vadnais@hq.doe.gov.

Correction

In the Federal Register of January 19, 2023, FR Doc. 2023-00966, (88 FR 3398) under the SUPPLEMENTARY INFORMATION section, the following corrections are made:

(5) Annual Estimated Number of Respondents: 201;

(6) Annual Estimated Number of Total Responses: 367;

(7) Annual Estimated Number of Burden Hours: 3722;

(8) Annual Estimated Reporting and Recordkeeping Cost Burden: $160,826.

Reason for Correction: The change aims to correct the collection information based upon the new OMB 1910-1000 Supporting Statement template.

Signing Authority

This document of the Department of Energy was signed on March 14, 2023, by Monja Vadnais, Acting Director for the Office of Sustainability and Asset Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 28, 2023.
Treena V. Garrett,
Federal Register Liaison Officer, U.S. Department of Energy.

[FR Doc. 2023-06725 Filed 3-30-23; 8:45 am]

BILLING CODE 6450-01-P